DEPARTMENT OF ENERGY

Federal Energy Regulatory Commission

[Docket No. EL08-63-000]

Federal Energy Regulatory Commission Michigan South Central Power Agency v. Midwest Independent Transmission System Operator, Inc.; Notice of Meeting

September 17, 2008.

The Federal Energy Regulatory Commission hereby gives notice that members of its staff will meet with representatives of Michigan South Central Power Agency on Friday, September 19, 2008, to discuss matters at issue in this proceeding. The meeting will take place from 10 a.m. until 12 p.m. in Conference Room 81-62 of the Commission's offices, 888 First Street NE., Washington, DC 20426.

Commission conferences and meetings are accessible under section 508 of the Rehabilitation Act of 1973. For accessibility accommodations please send an e-mail to accessibility@ferc.gov or call toll free 1-866-3372 (voice) or 202-208-8659 (TTY), or send a FAX to 202-208-2106 with the required accommodations.

For further information, please contact Jeffrey Hitchings in the Commission's Office of Energy Market Regulation: (202) 502-6042 or jeffrey.hitchings@ferc.gov.

Kimberly D. Bose,
Secretary.

[FR Doc. E8-22264 Filed 9-23-08; 8:45 am]

BILLING CODE 6717-01-P